DEPARTMENT OF TRANSPORTATION

Maritime Administration

[Docket No. MARAD-2025-0466]

Request for Comments on the Renewal of a Previously Approved Collection: Maritime Administration Annual Service Obligation Compliance Report

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133- 0509 (Maritime Administration Annual Service Obligation Compliance Report) is used to determine if a graduate of the U.S. Merchant Marine Academy (USMMA) or a State Maritime Academy (SMA) Student Incentive Payment (SIP) program, is complying with the terms of the service obligation. There are no changes since the last renewal. MARAD is required to publish this notice in the Federal Register to obtain comments from the public and affected agencies.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Danielle Bennett, 202-366-7618, Office of Maritime Labor and Training, W23-458, Maritime Administration, U.S. Department of Transportation, 1200 New Jersey Avenue SE, Room, Washington, DC 20590, Email: Maritime.Graduate@dot.gov.

SUPPLEMENTARY INFORMATION:

Title: Maritime Administration Annual Service Obligation Compliance Report.

OMB Control Number: 2133-0509.

Type of Request: Extension of a previously approved collection.

Abstract: 46 U.S.C. 51306 and 46 U.S.C. 51509 imposes a service obligation on every USMMA and SMA SIP program graduate. This mandatory service obligation is for the Federal financial assistance the graduate received as a student. The obligation consists of: (1) maintaining U.S. Coast Guard merchant mariner credentials and officer endorsements (unlimited license) as an officer in the merchant marine of the United States for at least six years following graduation from an academy; (2) serving as a commissioned officer in the U.S. Naval Reserve, the U.S. Coast Guard Reserve, or any other reserve unit of an armed force of the United States for at least eight years following graduation from an academy; and (3) serving as a merchant marine officer on U.S.-flag vessels as an employee in a U.S. maritime-related industry ashore, or as a commissioned officer on active duty in an armed force of the United States, National Oceanic and Atmospheric Administration (NOAA) Corps, United States Public Health Service (USPHS) Corps or other MARAD approved service; and (4) report annually on their compliance with the service obligation after graduation.

Respondents: USMMA and SMA SIP program graduates.

Affected Public: Individuals or households.

Estimated Number of Respondents: 2,100.

Estimated Number of Responses: 2,100.

Estimated Hours per Response: 20 Minutes.

Annual Estimated Total Annual Burden Hours: 700.

Frequency of Response: Annually.

A 60-day Federal Register Notice soliciting comments on this information collection was published on June 6, 2025 (90 FR 24192).

(Authority: The Paperwork Reduction Act of 1995; 44 U.S.C. Chapter 35, as amended; and 49 CFR 1.49.)

By Order of the Maritime Administration.
T. Mitchell Hudson, Jr.,
Secretary, Maritime Administration.

[FR Doc. 2025-16465 Filed 8-27-25; 8:45 am]

BILLING CODE 4910-81-P